DEPARTMENT OF HOMELAND SECURITY

Office of the Secretary

[Docket No. DHS-2015-0038]

Privacy Act of 1974; Department of Homeland Security/ALL-019 Payroll, Personnel, and Time and Attendance Records System of Records

AGENCY: Privacy Office, Department of Homeland Security.

ACTION: Notice of Privacy Act system of records.

SUMMARY: In accordance with the Privacy Act of 1974, the Department of Homeland Security proposes to update and reissue a current Department of Homeland Security system of records notice titled, “Department of Homeland Security/ALL-019 Payroll, Personnel and Time and Attendance Records System of Records.” This system of records allows the Department of Homeland Security to collect and maintain records on current and former Department of Homeland Security employees to track time worked, leave, or other absences for reporting and compliance purposes, and also to ensure proper payment of salary and benefits. As a result of a biennial review of this system, records have been updated within the (1) category of records and (2) routine uses. Additionally, this notice includes non-substantive changes to simplify the formatting and texts of the previously published notice. This updated system will be included in the Department's inventory of record systems.

DATES: Submit comments on or before October 28, 2015. This new system will be effective October 28, 2015.

ADDRESSES: You may submit comments, identified by docket number DHS-2015-0038 by one of the following methods:

• Federal e-Rulemaking Portal: http://www.regulations.gov. Follow the instructions for submitting comments.

• Fax: 202-343-4010.

• Mail: Karen L. Neuman, Chief Privacy Officer, Privacy Office, Department of Homeland Security, Washington, DC 20528-0655.

Instructions: All submissions received must include the agency name and docket number for this rulemaking. All comments received will be posted without change to http://www.regulations.gov, including any personal information provided.

Docket: For access to the docket, to read background documents, or comments received go to http://www.regulations.gov.

FOR FURTHER INFORMATION CONTACT: For general or privacy questions please contact: Karen L. Neuman (202) 343-1717, Chief Privacy Officer, Privacy Office, Department of Homeland Security, Washington, DC 20528-0655.

SUPPLEMENTARY INFORMATION:

I. Background

In accordance with the Privacy Act of 1974, 5 U.S.C. 552a, the Department of Homeland Security (DHS) proposes to update and reissue a current DHS system of records titled, “DHS/ALL-019 Payroll, Personnel, and Time and Attendance Records System of Records.”

This system helps DHS ensure proper payment of salary and benefits to DHS personnel and track time worked and leave or other absences (both excused and unexcused) for reporting and compliance purposes. The categories of records have been modified to include more specific details about information collected from current and former employees of DHS. In some instances, DHS Components may use a timekeeping system that relies on a hash identification number calculated from a finger scan. The hash identification number cannot be used to recreate a readable fingerprint to confirm the employee's identity. DHS is also modifying routine uses (A), (G), and (I) to provide greater clarity and non-substantive grammatical changes. DHS is amending the previous routine use (J) to eliminate a redundancy with 5 U.S.C. 552a (b)(11). New routine uses (P) through (Z) provide notice and transparency about external disclosures as part of the DHS payroll, time, and attendance process.

Consistent with DHS's information sharing mission, information stored in the DHS/ALL-019 Payroll, Personnel, and Time and Attendance Records may be shared with other DHS Components that have a need to know the information to carry out their national security, law enforcement, immigration, intelligence, or other homeland security functions. In addition, DHS may share information with appropriate federal, state, local, tribal, territorial, foreign, and international government agencies, members of the public, and other entities consistent with the routine uses set forth in this system of records notice.

This updated system will be included in DHS's inventory of record systems.

II. Privacy Act

The Privacy Act embodies fair information principles in a statutory framework governing the means by which federal government agencies collect, maintain, use, and disseminate individuals' records. The Privacy Act applies to information that is maintained in a “system of records.” A “system of records” is a group of any records under the control of an agency from which information is retrieved by the name of an individual or by some identifying number, symbol, or other identifying particular assigned to the individual. In the Privacy Act, an individual is defined to encompass U.S. citizens and lawful permanent residents. This system covers that defined group, but as a matter of policy, DHS extends administrative Privacy Act protections to all individuals when systems of records maintain information on U.S. citizens, lawful permanent residents, and visitors. Below is the description of the DHS/ALL-019 Payroll, Personnel, and Time and Attendance Records System of Records.

In accordance with 5 U.S.C. 552a(r), DHS has provided a report of this revised system of records to the Office of Management and Budget and to Congress.

System of Records:

Department of Homeland Security (DHS)/ALL-019

System name:

DHS/ALL-019 Payroll, Personnel, and Time and Attendance Records.

Security classification:

Unclassified.

System location:

Records are maintained at several Headquarters locations; in Component offices of DHS, in both Washington, DC and at field locations; and at DHS contractual or other federal agency payroll service provider locations.

Categories of individuals covered by the system:

Current and former employees of DHS.

Categories of records in the system:

Categories of records in this system include:

Payroll Records:

• Social Security number;

• Employee's name;

• Date of birth;

• Gender, Race/National Origin, and Disability Data;

• Address data such as home mailing address, email address, work address, etc.;

• Duty location;

• Position Data such as job title, occupational series, grade, step, pay plan, etc.;

• Awards and bonuses;

• Employment verification information;

• Education and training data;

• Military and veteran data;

• Taxes;

• Other deductions;

• Garnishments;

• Salary data;

• Retirement data;

• Pay period;

• Fiscal year data;

• Benefits; and

• Direct deposit information.

Time and Attendance Records:

• Employee's name;

• Duty location such as work address or Port of Entry;

• Supervisor name;

• Timekeeper name;

• Position Data such as job title, occupational series, grade, step, pay plan;

• Fingerprint hash identification number calculated from a finger scan that cannot be used to recreate a readable fingerprint;

• Time-off awards or incentives;

• Number and type of hours worked. Type of hours worked may include:

Regular Hours Worked;

Regular law enforcement availability pay (LEAP);

Overtime (including administratively uncontrollable overtime (AUO));

Telework;

Night Differential;

Compensatory time earned and used;

Compensatory travel earned and used;

Training time;

Tour of duty; and

Military leave.

• All forms of leave requests, balances, and credits, including Leave Without Pay (LWOP);

• All other absence types, including Absent Without Leave (AWOL) and Suspension;

• Information necessary to administer any of the agency's voluntary leave transfer programs including leave donated or used and any supporting documentation from the leave requestor (which may include medical records);

• Any other forms of leave available to current and former employees of DHS;

• Investigative case title and tracking number (used to track time worked associated with a specific case); and

• Fair Labor Standards Act (FLSA) compensation.

Data Reporting and Personnel and Pay Processing Tables

• Nature of action codes;

• Civil service authority codes;

• Standard remarks;

• Signature block table;

• Position title table;

• Financial organization table; and

• Salary tables.

Authority for maintenance of the system:

31 U.S.C. 66a; 5 U.S.C. 5501 et seq., 5525 et seq., 5701 et seq., and 6301 et seq.; Executive Order 9397, as amended by Executive Order 13478; Pub. L. 100-202, Pub. L. 100-440, and Pub. L. 101-509.

Purpose(s):

The purpose of this system is to ensure proper payment of salary and benefits to DHS personnel, and to track time worked, leave, or other absences for reporting and compliance purposes.

Routine uses of records maintained in the system, including categories of users and the purposes of such uses:

In addition to those disclosures generally permitted under 5 U.S.C. § 552a(b) of the Privacy Act, all or a portion of the records or information contained in this system may be disclosed outside DHS as a routine use pursuant to 5 U.S.C. § 552a(b)(3) as follows:

A. To the Department of Justice (DOJ), including Offices of the U.S. Attorneys, or other federal agencies conducting litigation or in proceedings before any court, adjudicative, or administrative body, when it is relevant or necessary to the litigation and one of the following is a party to the litigation or has an interest in such litigation:

1. DHS or any Component thereof;

2. Any employee or former employee of DHS in his or her official capacity;

3. Any employee or former employee of DHS in his or her individual capacity when DOJ or DHS has agreed to represent the employee; or

4. The U.S. Government or any agency thereof.

B. To a congressional office from the record of an individual in response to an inquiry from that congressional office made at the request of the individual to whom the record pertains.

C. To the National Archives and Records Administration (NARA) or General Services Administration pursuant to records management inspections being conducted under the authority of 44 U.S.C. §§ 2904 and 2906.

D. To an agency or organization for the purpose of performing audit or oversight operations as authorized by law, but only such information as is necessary and relevant to such audit or oversight function.

E. To appropriate agencies, entities, and persons when:

1. DHS suspects or has confirmed that the security or confidentiality of information in the system of records has been compromised;

2. DHS has determined that as a result of the suspected or confirmed compromise, there is a risk of identity theft or fraud, harm to economic or property interests, harm to an individual, or harm to the security or integrity of this system or other systems or programs (whether maintained by DHS or another agency or entity) that rely upon the compromised information; and

3. The disclosure made to such agencies, entities, and persons is reasonably necessary to assist in connection with DHS's efforts to respond to the suspected or confirmed compromise and prevent, minimize, or remedy such harm.

F. To contractors and their agents, grantees, experts, consultants, and others performing or working on a contract, service, grant, cooperative agreement, or other assignment for DHS, when necessary to accomplish an agency function related to this system of records. Individuals provided information under this routine use are subject to the same Privacy Act requirements and limitations on disclosure as are applicable to DHS officers and employees.

G. To an appropriate federal, state, tribal, territorial, local, international, or foreign law enforcement agency or other appropriate authority charged with investigating or prosecuting a violation or enforcing or implementing a law, rule, regulation, or order, when a record, either on its face or in conjunction with other information, indicates a violation or potential violation of law, which includes criminal, civil, or regulatory violations and such disclosure is proper and consistent with the official duties of the person making the disclosure.

H. To provide information to unions recognized as exclusive bargaining representatives under the Civil Service Reform Act of 1978, 5 U.S.C. §§ 7111 and 7114.

I. To designated officers and employees of federal, state, tribal, territorial, local, or international agencies in connection with the hiring or continued employment of an individual, the conduct of a suitability or security investigation of an individual, the grant, renewal, suspension, or revocation of a security clearance, or the certification of security clearances, to the extent that DHS determines the information is relevant and necessary to the hiring agency's decision.

J. To a court, magistrate, or administrative tribunal in the course of presenting evidence, including disclosures to opposing counsel or witnesses in the course of civil discovery, litigation, or settlement negotiations or in connection with criminal law proceedings.

K. To the other federal agencies who provide payroll personnel processing services under a cross-servicing agreement for purposes relating to the conversion of DHS employee payroll and personnel processing services; the issuance of paychecks to employees and distribution of wages; and the distribution of allotments and deductions to financial and other institutions, some through electronic funds transfer.

L. To federal, state, tribal, territorial, or local agencies for use in locating individuals and verifying their income sources to enforce child support orders, to establish and modify orders of support, and for enforcement of related court orders.

M. To provide wage and separation information to another federal agency as required by law for payroll purposes.

N. To the Office of Personnel Management, the Merit System Protection Board, Federal Labor Relations Authority, or the Equal Employment Opportunity Commission when requested in the performance of their authorized duties.

O. To the Department of Labor in connection with a claim filed by an employee for compensation due to a job-connected injury or illness.

P. To the Department of the Treasury to issue checks.

Q. To State offices of unemployment compensation with survivor annuity or health benefits claims or records reconciliations.

R. To Federal Employee's Group Life Insurance or Health Benefits carriers in connection with survivor annuity or health benefits claims or records reconciliations.

S. To the Internal Revenue Service and State and local tax authorities for which an employee is or was subject to tax regardless of whether tax is or was withheld in accordance with Treasury Fiscal Requirements, as required.

T. To officials of labor organizations recognized under 5 U.S.C. Chapter 71 for the purpose of providing information as to the identity of DHS employees contributing union dues each pay period and the amount of dues withheld from each contributor.

U. To any source from which additional information is requested by DHS relevant to a DHS determination concerning an individual's pay, leave, or travel expenses, to the extent necessary to identify the individual, inform the source of the purpose(s) of the request, and to identify the type of information requested.

V. To the Office of Management and Budget at any stage in the legislative coordination and clearance process in connection with private relief legislation as set forth in OMB Circular No. A-19.

W. To the Social Security Administration and the Department of the Treasury to disclose pay data on an annual basis.

X. To a federal agency or in response to a congressional inquiry when additional or statistical information is requested relevant to the DHS Transit Fare Subsidy Program.

Y. To the Department of Health and Human Services for the purpose of providing information on new hires and quarterly wages as required under the Personal Responsibility and Work Opportunity Reconciliation Act of 1996.

Z. To the news media and the public, with the approval of the Chief Privacy Officer in consultation with counsel, when there exists a legitimate public interest in the disclosure of the information or when disclosure is necessary to preserve confidence in the integrity of DHS or is necessary to demonstrate the accountability of DHS's officers, employees, or individuals covered by the system, except to the extent it is determined that release of the specific information in the context of a particular case would constitute an unwarranted invasion of personal privacy.

Disclosure to consumer reporting agencies:

Pursuant to 5 U.S.C. § 552a(b)(12): Disclosures may be made from this system to consumer reporting agencies as defined in the Fair Credit Reporting Act (15 U.S.C. § 1681a(f)) or the Federal Claims Collection Act of 1966 (31 U.S.C. § 3701(a)(3)).

Policies and practices for storing, retrieving, accessing, retaining, and disposing of records in the system:

Storage:

DHS stores records in this system electronically or on paper in secure facilities in a locked drawer behind a locked door. The records are stored on magnetic disc, tape, and digital media.

Retrievability:

DHS may retrieve records by an individual's name, Social Security number, position, organizational element, pay period, investigative case title or tracking number (for time worked associated with a specific case), and/or fiscal year.

Safeguards:

DHS safeguards records in this system in accordance with applicable rules and policies, including all applicable DHS automated systems security and access policies. DHS has imposed strict controls to minimize the risk of compromising the stored information. DHS limits access to the computer system containing the records in this system to those individuals who have a need to know the information for the performance of their official duties and who have appropriate clearances or permissions.

Retention and disposal:

In accordance with NARA General Records Schedule 2, Item 7, time and attendance records are destroyed after a Government Accountability Office audit or when six years-old; whichever is sooner. In accordance with NARA General Records Schedule 2, Item 1(b), individual employee payroll records are destroyed when 56 years-old. In accordance with NARA General Records Schedule 1, Item 18, supervisor personnel files are reviewed annually and destroyed when a file is superseded/obsolete, or within one year after separation or transfer of an employee. Duplicate official personnel records are destroyed when six months-old.

System Manager and address:

For DHS Headquarters, the System Manager is the Office of the Chief Human Capital Officer, Department of Homeland Security, Washington, DC 20528. For Components of DHS, the System Manager is the respective Human Capital Officer of the component.

Notification procedure:

Individuals seeking notification of and access to any record contained in this system of records, including DHS records hosted by another federal agency under a cross-servicing agreement for financial management services, or seeking to contest its content, may submit a request in writing to the Chief Privacy Officer and the Headquarters or Component's Freedom of Information Act (FOIA) Officer, whose contact information can be found at http://www.dhs.gov/foia-contact-information. If an individual believes more than one Component maintains Privacy Act records concerning him or her the individual may submit the request to the Chief Privacy Officer, Department of Homeland Security, 245 Murray Drive, SW., Building 410, STOP-0655, Washington, DC 20528-0655.

When seeking records about yourself from this system of records or any other Departmental system of records your request must conform with the Privacy Act regulations set forth in 6 CFR part 5. You must first verify your identity, meaning that you must provide your full name, current address, and date and place of birth. You must sign your request, and your signature must either be notarized or submitted under 28 U.S.C. 1746, a law that permits statements to be made under penalty of perjury as a substitute for notarization. While no specific form is required, you may obtain forms for this purpose from the Chief FOIA Officer on the Department's Web site at http://www.dhs.gov or by calling toll free 1-866-431-0486. In addition you should:

• Explain why you believe the Department would have information on you.

• Identify which Component(s) of the Department you believe may have the information about you.

• Specify when you believe the records would have been created.

• Provide any other information that will help the FOIA staff determine which DHS component agency may have responsive records.

If your request is seeking records pertaining to another living individual, you must include a statement from that individual certifying his/her agreement for you to access his/her records.

Without this bulleted information the Component(s) may not be able to conduct an effective search, and your request may be denied due to lack of specificity or lack of compliance with applicable regulations.

Record access procedures:

See “Notification procedure” above.

Contesting record procedures:

See “Notification procedure” above.

Record Source Categories:

Records are obtained from the individual.

Exemptions claimed for the system:

None.

Dated: September 18, 2015.
Karen L. Neuman
Chief Privacy Officer, Department of Homeland Security.

[FR Doc. 2015-24589 Filed 9-25-15; 8:45 am]

BILLING CODE 9110-9B-P